DEPARTMENT OF HOMELAND SECURITY

[Docket No. DHS-2012-0002]

Critical Infrastructure and Key Resources (CIKR) Asset Protection Technical Assistance Program (CAPTAP) Survey

AGENCY: National Protection and Programs Directorate, DHS.

ACTION: 60-day notice and request for comments; Reinstatement, with change, of a previously approved collection: 1670-0011.

SUMMARY: The Department of Homeland Security (DHS), National Protection and Programs Directorate (NPPD), Office of Infrastructure Protection (IP), Infrastructure Information Collection Division (IICD) will submit the following Information Collection Request to the Office of Management and Budget (OMB) for review and clearance in accordance with the Paperwork Reduction Act of 1995 (Pub. L. 104-13, 44 U.S.C. Chapter 35).

DATES: Comments are encouraged and will be accepted until August 20, 2012. This process is conducted in accordance with 5 CFR 1320.1.

ADDRESSES: Written comments and questions about this Information Collection Request should be forwarded to DHS/NPPD/IP/IICD, 245 Murray Lane SW., Mailstop 0602, Arlington, VA 20598-0602. Email requests should go to Vickie Bovell, Vickie.Bovell@dhs.gov. Written comments should reach the contact person listed no later than August 20, 2012. Comments must be identified by “DHS-2012-0002” and may be submitted by one of the following methods:

• Federal eRulemaking Portal: http://www.regulations.gov.

• Email: Include the docket number in the subject line of the message.

• Instructions: All submissions received must include the words “Department of Homeland Security” and the docket number for this action. Comments received will be posted without alteration at http://www.regulations.gov, including any personal information provided.

SUPPLEMENTARY INFORMATION: The Critical Infrastructure and Key Resources (CIKR) Asset Protection Technical Assistance Program (CAPTAP) is offered jointly by the NPPD/IP and the Federal Emergency Management Agency's National Preparedness Directorate to assist state and local first responders, emergency managers, and Homeland Security officials with training (classroom and Web-based) to develop comprehensive CIKR protection programs in their jurisdictions; provide access to the Automated Critical Asset Management System (ACAMS) tools for using CIKR asset data, prevention and protection information; and provide training and assistance with developing incident response and recovery plans to make their communities safe. The data collection survey measures participant satisfaction with the training provided through the CAPTAP service.

OMB is particularly interested in comments that:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

Analysis

Agency: Department of Homeland Security, National Protection and Programs Directorate, Office of Infrastructure Protection, Infrastructure Information Collection Division.

Title: Critical Infrastructure and Key Resources (CIKR) Asset Protection Technical Assistance Program (CAPTAP) Survey.

OMB Number: 1670-0011.

Frequency: Annually.

Affected Public: Federal, state, local first responders, emergency managers, and Homeland Security officials.

Number of Respondents: 700 respondents (estimate).

Estimated Time per Respondent: 10 minutes.

Total Burden Hours: 116.69 annual burden hours.

Total Burden Cost (capital/startup): $0.

Total Recordkeeping Burden: $0.

Total Burden Cost (operating/maintaining): $13,145.00.

Dated: June 12, 2012.
Richard Driggers,
Acting Chief Information Officer, National Protection and Programs Directorate, Department of Homeland Security.

[FR Doc. 2012-15014 Filed 6-19-12; 8:45 am]

BILLING CODE 9110-9P-P